DEPARTMENT OF JUSTICE

Office of Justice Programs

28 CFR Part 91

[OJP(OJP)-Docket No. 1099F]

RIN 1121-AA41

Grants for Correctional Facilities on Tribal Lands Program

AGENCY: Office of Justice Programs, Justice.

ACTION: Second interim rule with request for comments.

SUMMARY: The Office of Justice Programs is issuing this second interim rule to update and further clarify what the Bureau of Justice Assistance considers to be an eligible “Indian tribe” and what is considered to be “construction,” under the Grants for Correctional Facilities on Tribal Lands Program.

DATES: This rule will become effective February 17, 2004. All comments must be received by March 15, 2004.

ADDRESSES: Interested persons are invited to submit comments regarding this rule, by U.S. mail, to Renee Giger, Bureau of Justice Assistance, Office of Justice Programs, 810 Seventh Street, NW., Washington, DC 20531; and by electronic mail, to: gigerr@ojp.usdoj.gov. Communications should refer to the above docket number and title.

FOR FURTHER INFORMATION CONTACT: Phillip Merkle, Senior Policy Advisor, Bureau of Justice Assistance, Office of Justice Programs, 810 Seventh Street, NW., Washington, DC 20531; Telephone: (202) 305-2550. (This is not a toll-free number.)

SUPPLEMENTARY INFORMATION:

Background

The Bureau of Justice Assistance (BJA) in the Office of Justice Programs (OJP) administers several major grant programs and provides technical assistance to state, local, and tribal governments to help them with the implementation of the 1994 Crime Act's corrections-related programs. One of these programs is the Grants for Correctional Facilities on Tribal Lands Program. This program provides funding for the construction of correctional facilities on tribal lands for the incarceration of offenders subject to tribal jurisdiction.

Grant funds may not be used for the purchase of land or for the costs associated with the operation of the correctional facility.

History of This Rulemaking

On September 24, 1996, OJP published an interim rule (at 61 FR 49969), amending 28 CFR Part 91, Subpart C, Grants for Correctional Facilities, to implement the Violent Offender Incarceration and Truth-In-Sentencing Grants Program for Indian Tribes, as required by section 114 of the Fiscal Year 1996 Omnibus Consolidated Rescissions and Appropriations Act. Section 114 amended the Violent Crime Control and Law Enforcement Act of 1994, 42 U.S.C. 13701 et seq., to authorize a reservation of funds for the specific purpose of allowing the Attorney General to make discretionary grants to Indian tribes.

Since the publication of the 1996 interim rule, OJP has received requests for further clarification of certain terms. Accordingly, OJP is now issuing this second interim rule, revising Subpart C to update and clarify what is an eligible “Indian tribe” and what is considered “construction” under this program.

Regulatory Certifications

Administrative Procedure Act 5 U.S.C. 553

Because this rule makes only technical clarifications to a previously published interim rule, and imposes no new restrictions, the Department of Justice finds good cause for exempting it from the provision of the Administrative Procedure Act (5 U.S.C. 553) requiring notice of proposed rule-making, and the 60-day period required for public comment. For the same reasons, a delay in the effective date of these changes would be unnecessary and contrary to the public interest.

Executive Order 12866

This regulation has been written and reviewed in accordance with Executive Order 12866, Sec. 1(b), Principles of Regulation. OJP has determined that this rule is not a “significant regulatory action” under Executive Order 12866, Sec. 3(f), Regulatory Planning and Review, and accordingly this rule has not been reviewed by the Office of Management and Budget.

Regulatory Flexibility Act

OJP, in accordance with the Regulatory Flexibility Act (5 U.S.C. 605(b)), has reviewed this regulation and by approving it certifies that this regulation will not have a significant economic impact upon a substantial number of small entities because the economic impact is limited to OJP's appropriated funds.

Unfunded Mandates Reform Act of 1995

This rule will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by Sec. 804 of the Small Business Regulatory Enforcement Fairness Act of 1996. This rule will not result in an annual effect on the economy of $100,000,000 or more; a major increase in cost or prices; or significant adverse effects on competition, employment, investment, productivity, innovation, or on the ability of United States-based companies to compete with foreign-based companies in domestic and export markets.

Paperwork Reduction Act

No new collection of information requirements as defined under the Paperwork Reduction Act (44 U.S.C. 3504(h)) are being added by this regulation.

Environmental Impact

OJP has evaluated this rule in accordance with its procedures for ensuring full consideration of the potential environmental impacts of OJP's actions, as required by the National Environmental Policy Act (42 U.S.C. § 4321 et seq.) and related directives. OJP has concluded that the issuance of this rule does not have a significant impact on the quality of the human environment and, therefore, does not require the preparation of an Environmental Impact Statement.

Energy Impact Statement

OJP has evaluated this rule and has determined that it creates no new impact on the energy supply or distribution.

List of Subjects in 28 CFR Part 91

Grant programs—Law.

Accordingly, for the reasons set forth in the preamble, 28 CFR part 91, as amended by the interim rule published at 61 FR 49969 on September 24, 1996, is further amended by this second interim rule as follows:

PART 91—GRANTS FOR CORRECTIONAL FACILITIES

1. The authority citation for subpart C continues to read as follows:

Authority: 42 U.S.C. 13701 et seq., as amended by Pub. L. 104-134.

2. Subpart C is amended by revising the heading to read as follows:

Subpart C—Correctional Facilities on Tribal Lands

2. Section 91.22 is amended by revising paragraphs (d) and (e) to read as follows:

§ 91.22 Definitions.

* * * * *

(d) Indian Tribe means an eligible Native American tribe as defined by the Indian Self Determination Act, 25 U.S.C. 450b(e).

(e) Construction means the erection, acquisition, renovation, repair, remodeling, or expansion of new or existing buildings or other physical facilities, and the acquisition or installation of fixed furnishings and equipment. It includes facility planning (including environmental impact analysis), pre-architectural programming, architectural design, preservation, construction, administration, construction management, or project management costs. Construction does not include the purchase of land.

Deborah J. Daniels,
Assistant Attorney General, Office of Justice Programs.

[FR Doc. 04-281 Filed 1-14-04; 8:45 am]

BILLING CODE 4410-18-P